DEPARTMENT OF AGRICULTURE

Animal and Plant Health Inspection Service

[Docket No. APHIS-2014-0008]

Notice of Availability of a Pest Risk Analysis for the Importation of Fresh Figs From Mexico Into the Continental United States

AGENCY: Animal and Plant Health Inspection Service, USDA.

ACTION: Notice of availability.

SUMMARY: We are advising the public that we have prepared a pest list and risk management document regarding the risks associated with the importation into the continental United States of fresh figs from Mexico. Based on these documents, we have concluded that the application of one or more designated phytosanitary measures will be sufficient to mitigate the risks of introducing or disseminating plant pests or noxious weeds via the importation of fresh figs from Mexico. We are making the documents available to the public for review and comment.

DATES: We will consider all comments that we receive on or before August 11, 2014.

ADDRESSES: You may submit comments by either of the following methods:

• Federal eRulemaking Portal: Go to http://www.regulations.gov/#!docketDetail;D=APHIS-2014-0008.

• Postal Mail/Commercial Delivery: Send your comment to Docket No. APHIS-2014-0008, Regulatory Analysis and Development, PPD, APHIS, Station 3A-03.8, 4700 River Road, Unit 118, Riverdale, MD 20737-1238.

Supporting documents and any comments we receive on this docket may be viewed at http://www.regulations.gov/#!docketDetail;D=APHIS-2014-0008 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Mr. Marc Phillips, Senior Regulatory Policy Specialist, PPQ, APHIS, 4700 River Road, Unit 133, Riverdale, MD 20737-1231; (301) 851-2114.

SUPPLEMENTARY INFORMATION:

Background

Under the regulations in “Subpart—Fruits and Vegetables” (7 CFR 319.56-1 through 319.56-68, referred to below as the regulations), the Animal and Plant Health Inspection Service (APHIS) prohibits or restricts the importation of fruits and vegetables into the United States from certain parts of the world to prevent plant pests from being introduced into or disseminated within the United States.

Section 319.56-4 contains a performance-based process for approving the importation of commodities that, based on the findings of a pest risk analysis, can be safely imported subject to one or more of the designated phytosanitary measures listed in paragraph (b) of that section.

APHIS received a request from the Government of Mexico to allow the importation of fresh figs (Ficus carica) into the continental United States. We have completed a pest list for this commodity to identify pests of quarantine significance that could follow the pathway of importation into the continental United States and, based on this list, have prepared a risk management document to identify phytosanitary measures that could be applied to fresh figs from Mexico to mitigate the pest risk. We have concluded that fresh figs can be safely imported into the continental United States from Mexico using one or more of the five designated phytosanitary measures listed in § 319.56-4(b). These measures are:

• The figs may be imported into the continental United States in commercial consignments only.

• The figs must be irradiated in accordance with 7 CFR part 305 with a minimum absorbed dose of 150 Gy.

• If the irradiation treatment is applied outside the United States, each consignment of fruit must be jointly inspected by APHIS and the national plant protection organization (NPPO) of Mexico and accompanied by a phytosanitary certificate (PC) attesting that the fruit received the required irradiation treatment. The PC must also include an additional declaration stating that the consignment was inspected and found free of Maconellicoccus hirsutus and Nipaecoccus viridis.

• If the irradiation treatment is applied upon arrival in the United States, each consignment of fruit must be inspected by the NPPO of Mexico prior to departure and accompanied by a PC attesting that the fruit was inspected and found free of Maconellicoccus hirsutus and Nipaecoccus viridis.

• The commodity is subject to inspection at the U.S. port of entry.

Therefore, we are announcing the availability of our pest list and risk management document for public review and comment. The documents may be viewed on the Regulations.gov Web site or in our reading room (see ADDRESSES above for a link to Regulations.gov and information on the location and hours of the reading room). You may request paper copies of the documents by calling or writing to the person listed under FOR FURTHER INFORMATION CONTACT. Please refer to the subject of the pest list and risk management document you wish to review when requesting copies.

After reviewing any comments we receive, we will announce our decision regarding the import status of fresh figs from Mexico in a subsequent notice. If the overall conclusions of the analysis and the Administrator's determination of risk remain unchanged following our consideration of the comments, then we will authorize the importation of fresh figs from Mexico into the continental United States subject to the requirements specified in the risk management document.

Authority: 7 U.S.C. 450, 7701-7772, and 7781-7786; 21 U.S.C. 136 and 136a; 7 CFR 2.22, 2.80, and 371.3.

Done in Washington, DC, this 6th day of June 2014.
Kevin Shea,
Administrator, Animal and Plant Health Inspection Service.

[FR Doc. 2014-13784 Filed 6-11-14; 8:45 am]

BILLING CODE 3410-34-P